DEPARTMENT OF HEALTH AND HUMAN SERVICES

National Institutes of Health

Proposed Collection; 60-Day Comment Request; Collection of Customer Services, Demographic, and Smoking/Tobacco Use Information From the National Cancer Institute's Cancer Information Service (CIS) Clients (NCI)

SUMMARY: In compliance with the requirement of section 3506(c)(2)(A) of the Paperwork Reduction Act of 1995, for opportunity for public comment on proposed data collection projects, the National Cancer Institute (NCI), National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To obtain a copy of the data collection plans and instruments, submit comments in writing, or request more information on the proposed project, contact: Mary Anne Bright, NCI Office of Communications and Public Liaison, 9609 Medical Center Drive, Rockville, MD 20850 or call non-toll-free number 240-276-6647 or Email your request, including your address to: brightma@mail.nih.gov. Formal requests for additional plans and instruments must be requested in writing.

Comment Due Date: Comments regarding this information collection are best assured of having their full effect if received within 60 days of the date of this publication.

Proposed Collection: Collection of Customer Service, Demographic, and Smoking/Tobacco use Information from the National Cancer Institute's Cancer Information Service (CIS) Clients (NCI), 0925-0208, Revision, National Cancer Institute (NCI), National Institutes of Health (NIH).

Need and Use of Information Collection: The National Cancer Institute (NCI) currently collects: (1) Customer service and demographic information from clients of the Cancer Information Service (CIS) in order to properly plan, implement, and evaluate cancer education efforts, including assessing the extent by which the CIS reaches and impacts underserved populations; (2) smoking/tobacco use behavior of individuals seeking NCI's smoking cessation assistance through the CIS in order to provide smoking cessation services tailored to the individual client's needs and track their smoking behavior at follow up. This is a request for OMB to approve a revised submission for an additional three years to provide ongoing customer service, collection of demographic information, and brief customer satisfaction information from NCI Cancer Information Service (CIS) Clients for the purpose of program planning and evaluation.

OMB approval is requested for 3 years. There are no costs to respondents other than their time. The total estimated annualized burden hours are 2,879.

Estimated Annualized Burden Hours
Type of respondents | Survey instrument | Number of respondents | Frequency of responses | Average time per response (minutes/hour) | Annual burden hours
Telephone Clients | Customer Service | 65,500 | 1 | 1/60 | 1,092
| Demographic Questions | 23,580 | 1 | 2/60 | 786
Smoking Cessation “Quitline” Clients Reactive Service Clients | Smoking Cessation “Intake” Questions | 5,707 | 1 | 5/60 | 475
| Demographic Questions | 3,995 | 1 | 2/60 | 133
Smoking Cessation “Quitline” Clients Proactive Callback Service Clients | Follow-Up | 1,540 | 4 | 1/60 | 25
LiveHelp Clients | Demographic questions | 6,119 | 1 | 2/60 | 204
Customer Satisfaction Survey | Survey questions | 15,665 | 1 | 2/60 | 130
E-mail Clients | Email Intake Form | 1,000 | 1 | 2/60 | 34

Dated: September 15, 2015.
Karla Bailey,
NCI Project Clearance Liaison, National Institutes of Health.

[FR Doc. 2015-24544 Filed 9-25-15; 8:45 am]

BILLING CODE 4140-01-P